FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 13, 2009.

A. Federal Reserve Bank of San Francisco (Kenneth Binning, Vice President, Applications and Enforcement) 101 Market Street, San Francisco, California 94105-1579:

1. Alma Medina Vivar, Daly City, California; as part of a group acting in concert including Rommel and Ruell Medina, to individually acquire, and to collectively acquire, voting shares of MNB Holdings, Inc., and thereby indirectly acquire voting shares of Mission National Bank, both of San Francisco, California.

Board of Governors of the Federal Reserve System, September 23, 2009.
Robert deV. Frierson,
Deputy Secretary of the Board.

[FR Doc. E9-23356 Filed 9-25-09; 8:45 am]

BILLING CODE 6210-01-S